DEPARTMENT OF AGRICULTURE

Animal and Plant Health Inspection Service

[Docket No. APHIS-2018-0076]

Notice of Request for Revision to and Extension of Approval of an Information Collection: Importation of Citrus From Peru; Expansion of Citrus-Growing Area

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of citrus from Peru into the continental United States.

DATES: We will consider all comments that we receive on or before December 28, 2018.

ADDRESSES: You may submit comments by either of the following methods:

• Federal eRulemaking Portal: Go to http://www.regulations.gov/#!docketDetail;D=APHIS-2018-0076.

• Postal Mail/Commercial Delivery: Send your comment to Docket No. APHIS-2018-0076, Regulatory Analysis and Development, PPD, APHIS, Station 3A-03.8, 4700 River Road Unit 118, Riverdale, MD 20737-1238.

Supporting documents and any comments we receive on this docket may be viewed at http://www.regulations.gov/#!docketDetail;D=APHIS-2018-0076 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of citrus from Peru and expansion of citrus-growing area, contact Ms. Claudia Ferguson, Senior Regulatory Policy Specialist, PPQ, APHIS, 4700 River Road Unit 39, Riverdale, MD 20737; (301) 851-2242. For more detailed information on the information collection, contact Ms. Kimberly Hardy, APHIS' Information Collection Coordinator, at (301) 851-2483.

SUPPLEMENTARY INFORMATION:

Title: Importation of Citrus From Peru; Expansion of Citrus-Growing Area.

OMB Control Number: 0579-0433.

Type of Request: Revision to and extension of approval of an information collection.

Abstract: The United States Department of Agriculture, Animal and Plant Health Inspection Service (APHIS) is responsible for preventing plant pests and noxious weeds from entering the United States, preventing the spread of plant diseases not widely distributed in the United States, and eradicating those imported pests and noxious weeds when eradication is feasible. Under the Plant Protection Act (7 U.S.C. 7701 et seq.), the Secretary of Agriculture is authorized to carry out operations or measures to detect, eradicate, suppress, control, prevent, or retard the spread of plant pests new to the United States or not known to be widely distributed throughout the United States.

The regulations in “Subpart—Fruits and Vegetables” (7 CFR 319.56-1 through 319.56-12, referred to below as the regulations), prohibit or restrict the importation of fruits and vegetables into the United States from certain parts of the world, to prevent the introduction and dissemination of plant pests and plant diseases.

APHIS currently allows the importation of citrus fruit to the continental United States from Peru utilizing a systems approach that mitigates the plant pest risk associated with citrus fruit produced in Peru. This systems approach allows the importation of citrus fruit from Peru while continuing to provide protection against the introduction of plant pests into the continental United States. Allowing the importation of citrus into the United States from Peru requires information collection activities, such as phytosanitary certificates, grower registrations and agreements, recordkeeping, fruit fly management programs with trapping and control of fruit fly inspections, import permit applications, port of first arrival sampling inspections, emergency action notifications, and notices of arrival.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.6 hours per response.

Respondents: National plant protection organization of Peru, producers, and exporters.

Estimated annual number of respondents: 66.

Estimated annual number of responses per respondent: 13.

Estimated annual number of responses: 853.

Estimated total annual burden on respondents: 1,360 hours. (Due to averaging, the total annual burden hours may not equal the product of the annual number of responses multiplied by the reporting burden per response.)

All responses to this notice will be summarized and included in the request for OMB approval. All comments will also become a matter of public record.

Done in Washington, DC, this 24th day of October 2018.
Kevin Shea,
Administrator, Animal and Plant Health Inspection Service.

[FR Doc. 2018-23540 Filed 10-26-18; 8:45 am]

BILLING CODE 3410-34-P